DEPARTMENT OF THE INTERIOR

Bureau of Land Management

[ID-095-1430-NJ]

Emergency Closure of Public Lands

AGENCY: Bureau of Land Management, Interior.

ACTION: Emergency closure of public lands for access on all roads, trails and cross country travel to mechanized vehicles (motorized vehicles of all types) on BLM administered lands in Elmore County, Idaho, containing 480 acres.

SUMMARY: The operation of all mechanized vehicles (motorized vehicles of all types) on public lands administered by BLM on the S½, Section 19, and N½N½, Section 30; T. 1 S., R. 5 E., Boise Meridian, Elmore County, Idaho is hereby prohibited. The emergency access closure is intended to protect special status plant species, and their habitats, from further degradation and demise. Also, due to the unauthorized road excavation over an existing petroleum pipeline this unauthorized activity has made the pipeline dangerously close to the surface putting the public's health, safety and well-being at extremely high risk. The closure will go into effect immediately and will expire October 4, 2003. Exceptions to this closure may include vehicle use for administrative and emergency purposes. Under special circumstances, the authorized officer may issue a permit allowing vehicle access into the area for specific purposes.

Definitions: (a) “Public lands” means any lands or interests in lands owned by the United States and administered by the Secretary of the Interior through the Bureau of Land Management. (b) “Authorized Officer” means any employee of the Bureau of Land Management who has been delegated the authority to perform the duties described in this order. (c) “Emergency vehicles” means any fire or law enforcement vehicle use for emergency purposes. (d) “ Administrative vehicles” refers to any vehicles used by an employee, agent or designated representative of the federal government, or one of it's contractors, in the course of their employment, agency or representation.

EFFECTIVE DATE: This Emergency Access Closure Order is effective immediately through October 4, 2003.

ADDRESSES: Bureau of Land Management, Four Rivers Field Office, 3948 Development Ave., Boise, Idaho 83705.

FOR FURTHER INFORMATION CONTACT: Daryl Albiston, Four Rivers Field Manager, (208) 384-3300.

SUPPLEMENTARY INFORMATION: This emergency closure is being established and administered by the Bureau of Land Management. Authority for this action is found in CFR Title 43, subpart 8360.0-3 and complies with CFR Title 43, subpart 8364.1 Closure and Restriction Orders. Violation of this closure order is in accordance with CFR Title 43, subpart 8360.0-7 punishable by a fine not to exceed $1,000 and/or imprisonment not to exceed 12 months. Such violations may also be subject to the enhanced fines provided for by the Title 18 U.S.C. 3571.

Dated: October 5, 2001.
Daryl Albiston,
Four Rivers Field Manager.

[FR Doc. 01-28112 Filed 11-8-01; 8:45 am]

BILLING CODE 4310-GG-P